Title 3—

The President

Proclamation 9078 of January 22, 2014

Martin Luther King, Jr., Federal Holiday, 2014

By the President of the United States of America

A Proclamation

Each year, America sets aside a day to remember a giant of our Nation's history and a pioneer of the Civil Rights Movement. During his lifelong struggle for justice and equality, the Reverend Dr. Martin Luther King, Jr., gave mighty voice to the quiet hopes of millions, offered a redemptive path for oppressed and oppressors alike, and led a Nation to the mountaintop. Behind the bars of a Birmingham jail cell, he reminded us that “injustice anywhere is a threat to justice everywhere.” On a hot summer day, under the shadow of the Great Emancipator, he challenged America to make good on its founding promise, and he called on every lover of freedom to walk alongside their brothers and sisters.

As we marked the 50th Anniversary of the March on Washington for Jobs and Freedom last August, we noted the depth of courage and character assembled on the National Mall that day. We honored all who marched, bled, and died for civil rights. And we celebrated the great victories of the last half century—civil rights and voting rights laws; new opportunities in the classroom and the workforce; a more fair and free America, not only for African Americans, but for us all.

We were also reminded that our journey is not complete. It is our task to build on the gains of past generations, from challenging new barriers to the vote to ensuring the scales of justice work equally for all people. And we must advance another cause central to both Dr. King's career and the Civil Rights Movement—the dignity of good jobs, decent wages, quality education, and a fair deal. Because America's promise is not only the absence of oppression but also the presence of opportunity, we must make our Nation one where anyone willing to work hard is admitted into the ranks of a rising, thriving middle class.

Dr. King taught us that “an individual has not started living until he can rise above the narrow confines of his individualistic concerns to the broader concerns of all humanity.” In honor of this spirit, Americans across the country will come together for a day of service. By volunteering our time and energy, we can build stronger, healthier, more resilient communities. Today, let us put aside our narrow ambitions, lift up one another, and march a little closer to the Nation Dr. King envisioned.

NOW, THEREFORE, I, BARACK OBAMA, President of the United States of America, by virtue of the authority vested in me by the Constitution and the laws of the United States, do hereby proclaim January 20, 2014, as the Martin Luther King, Jr., Federal Holiday. I encourage all Americans to observe this day with appropriate civic, community, and service projects in honor of Dr. King and to visit www.MLKDay.gov to find Martin Luther King, Jr., Day of Service projects across our country.

IN WITNESS WHEREOF, I have hereunto set my hand this sixteenth day of January, in the year of our Lord two thousand fourteen, and of the Independence of the United States of America the two hundred and thirty-eighth.

[FR Doc. 2014-01413

Filed 1-21-14; 11:15 am]

Billing code 3295-F4